DEPARTMENT OF JUSTICE

Drug Enforcement Administration

Jerry Clifton Lingle, M.D.; Revocation of Registration

On October 10, 2000, the Deputy Assistant Administrator, Office of Diversion Control, Drug Enforcement Administration (DEA), issued an Order to Show Cause (OTSC) by certified mail to Jerry Clifton Lingle, M.D., notifying him of an opportunity to show cause as to why the DEA should not revoke his DEA Certificate of Registration, BL1508285, pursuant to 21 U.S.C. 824(a)(3), and deny any pending applications for renewal of such registration pursuant to 21 U.S.C. 823(f), on the grounds that Dr. Lingle was not authorized by the State of Florida to handle controlled substances. The order also notified Dr. Lingle that should no request for hearing be filed within 30 days, his right to a hearing would be deemed waived.

The OTSC was sent to Dr. Lingle at his DEA registered premises in Fort Lauderdale, Florida. A postal delivery receipt was signed October 28, 2000, on behalf of Dr. Lingle, indicating the OTSC was received. To date, no response has been received from Dr. Lingle nor anyone purporting to represent him.

Therefore, the Administrator, finding that (1) 30 days having passed since the receipt of the Order to Show Cause, and (2) no request for a hearing having been received, concludes that Dr. Lingle is deemed to have waived his right to a hearing. Following a complete review of the investigative file in this matter, the Administrator now enters his final order without a hearing pursuant to 21 CFR 1301.43(d) and (e), and 1301.46.

The Administrator finds as follows. Dr. Lingle currently possesses DEA Certificate of Registration BL1508285, issued to him in Florida. By Order of Emergency Suspension of License, dated June 9, 1999, the State of Florida, Department of Health, suspended Dr. Lingle's medical license, finding that “Dr. Lingle's continued practice as a physician constitutes an immediate and serious danger to the health, safety and welfare of the public[.]” The investigative file contains no evidence that the Emergency Suspension of Dr. Lingle's medical license has been lifted.

Therefore, the Administrator concludes that Dr. Lingle is not currently licensed or authorized to handle controlled substances in Florida.

The DEA does not have the statutory authority pursuant to the Controlled Substances Act to issue or to maintain a registration if the applicant or registrant is without state authority to handle controlled substances in the state in which he or she practices. See 21 U.S.C. 823(f), and 824(a)(3). This prerequisite has been consistently upheld in prior DEA cases. See Graham Travers Schuler, M.D., 65 FR 50570 (2000); Romeo J. Perez, M.D., 62 FR 16193 (1997); Demetris A. Green, M.D., 61 FR 60728 (1996); Dominick A. Ricci, M.D. 58 FR 51104 (1993).

In the instant case, the Administrator finds the Government has presented evidence demonstrating that Dr. Lingle is not authorized to practice medicine in Florida, and therefore, the Administrator infers that Dr. Lingle is also not authorized to handle controlled substances in Florida, the State in which he holds his DEA Certificate of Registration.

Accordingly, the Administrator of the Drug Enforcement Administration, pursuant to the authority vested in him by 21 U.S.C. 823 and 824 and 28 CFR 0.100(b) and 0.104, hereby orders that the DEA Certificate of Registration BL1508285, previously issued to Jerry Clifton Lingle, M.D., be, and it hereby is, revoked. The Administrator hereby further orders that any pending applications for renewal or modification of said registration be, and hereby are, denied. This order is effective November 19, 2001.

Dated: October 10, 2001.
Asa Hutchinson,
Administrator.

[FR Doc. 01-26186 Filed 10-17-01; 8:45 am]

BILLING CODE 4410-09-M